DEPARTMENT OF JUSTICE

Antitrust Division

Notice Pursuant to the National Cooperative Research and Production Act of 1993—American Welding Society, Inc.

Notice is hereby given that, on September 20, 2004, pursuant to section 6(a) of the National Cooperative Research and Production Act of 1993, 15 U.S.C. 4301 et seq. (“the Act”), American Welding Society, Inc. (“AWS”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: American Welding Society, Inc., Miami, FL. The nature and scope of AWS's standards development activities are: The development, maintenance, and publishing of standards in the areas of Metric Practices, Definitions & Symbols, Filler Metals & Allied Products, Computerization of Welding Information, Instrumentation for Welding, Methods of Inspection, Welding Qualification, Mechanical Testing of Welds, Resistance Welding, Thermal Spray, Brazing & Soldering, Oxyfuel Gas Welding & Cutting, Arc Welding & Cutting, Friction Welding, High Energy Beam Welding/Cutting, Structural Welding, Piping & Tubing, Welding Iron Castings, Machinery & Equipment, Railroad Welding, Robotics & Automatic Welding, Aircraft & Aerospace, Food Processing Equipment, Welding in Marine Construction, Automotive Welding, Welding of Sheet Metal, Joining Plastics & Composites, Joining of Metals & Alloys, Personnel & Facilities Qualification and Safety & Health.

Additional Information may be obtained from Andrew Davis, Managing Director of the Technical Services Division of the American Welding Society, (800) 443-9353.

Dorothy B. Fountain,
Deputy Director of Operations, Antitrust Division.

[FR Doc. 04-24559 Filed 11-2-04; 8:45 am]

BILLING CODE 4410-11-M